FEDERAL COMMUNICATIONS COMMISSION

[DA 00-536]

Window Filing Opportunity for Certain Pending Applications and Allotment Petitions for New Analog TV Stations Extended to July 15, 2000

AGENCY: Federal Communications Commission.

ACTION: Notice.

SUMMARY: This document announces that the window filing opportunity to allow persons with certain pending requests for new analog (NTSC) television stations to modify their requests, if possible, to eliminate technical conflicts with digital television (DTV) stations and to move from channels 60 through 69 has been extended to July 15, 2000.

DATES: The window filing opportunity now closes July 15, 2000.

FOR FURTHER INFORMATION CONTACT: Shaun Maher, Video Services Division, Mass Media Bureau at (202) 418-1600.

SUPPLEMENTARY INFORMATION: This window is available for (1) amendments (other than channel changes) to pending applications for new full-service NTSC television stations on channel 2 through 59, (2) petitions for rule making seeking a new channel below channel 60 for those applicants with pending applications for new full-service NTSC television stations on channels 60 through 69 (in addition, authorized NTSC stations and DTV allotments on channels 60 through 69 can seek permission to relocate to a lower channel at any time, including during this filing window, if they can identify a suitable channel) (3) petitions for rule making seeking a new channel below channel 60 for those applicants with pending applications for new full-service NTSC television stations on channels 2 through 59 at locations inside of the “TV Freeze Areas” and (4) amendments to pending rule making petitions to amend the TV Table of Allotments to add NTSC television allotments.

Federal Communications Commission.
Magalie Roman Salas,
Secretary.

[FR Doc. 00-7172 Filed 3-22-00; 8:45 am]

BILLING CODE 6712-01-P